DEPARTMENT OF COMMERCE

National Oceanic and Atmospheric Administration

National Sea Grant Review Panel; Meeting

ACTION: Notice of public meeting.

SUMMARY: This notice sets forth the schedule and proposed agenda of a forthcoming meeting of the Sea Grant Review Panel. The meeting will have several purposes. Panel members will discuss and provide advice on the National Sea Grant College Program in the areas of program evaluation, education and extension, science and technology programs, and other matters as described below:

DATES: The announced meeting is schedule during two days: Thursday, January 11, 8:30 a.m. to 5:15 p.m.; Friday, January 12, 8:30 a.m. to 12:15 noon.

ADDRESSES: National Oceanic and Atmospheric Administration, Silver Spring Metro Center III, 1315 East-West Highway, Room 4527, Silver Spring, Maryland 20910.

FOR FURTHER INFORMATION CONTACT: Dr. Ronald C. Baird, Director, National Sea Grant College Program, National Oceanic and Atmospheric Administration, 1315 East-West Highway, Room 11716, Silver Spring, Maryland 20910, (301) 713-2448.

SUPPLEMENTARY INFORMATION: The Panel, which consists of a balanced representation from academia, industry, state government and citizens groups, was established in 1976 by Section 209 of the Sea Grant Improvement Act (Pub. L. 94-461, 33 U.S.C. 1128). The Panel advises the Secretary of Commerce and the Director of the National Sea Grant College Program with respect to operations under the Act, and such other matters as the Secretary refers to them for review and advice. The agenda for the meeting is as follows:

Thursday, January 11, 2001

8:30 a.m.—Welcoming and Opening Formalities

8:45 a.m.—Executive Committee Report

9:00 a.m.—State of Sea Grant Presentation

9:20 a.m.—Sea Grant Association Presentation

10:15 a.m.—Break

10:30 a.m.—Sea Grant Review Panel Subcommittee Reports

—Science & Technology Task Force Report

—Membership Committee Report

—Minority Serving Institutions Report

11:00 a.m.—National Extension Review Report Presentation

12:30 p.m.—Working Lunch

2:00 p.m.—Transition/Sea Grant Retreat

—NSGO Transition White Paper

—Sea Grant Retreat 2000

3:30 p.m.—Break

3:45 p.m.—Sea Grant Week Update

4:00 p.m.—Review of the National Sea Grant Office

4:30 p.m.—Pending Panel Business

5:15 p.m.—Adjourn

Friday, January 12, 2001

8:30 a.m.—Program Evaluation Discussion

9:00 a.m.—NOAA and OAR Update

9:30 a.m.—Congressional Update

10:30 a.m.—Break

10:45 a.m.—National Sea Grant Office Update

11:45 a.m.—Sea Grant/John A. Knauss Marine Policy Fellow Program

12:15 p.m.—Wrap-up

12:30 p.m.—Adjourn

This meeting will be open to the public.

David L. Evans,
Assistant Administrator, Office of Oceanic and Atmospheric Research.

[FR Doc. 00-32447 Filed 12-20-00; 8:45 am]

BILLING CODE 3510-KA-M